DEPARTMENT OF AGRICULTURE

Natural Resources Conservation Service

Notice of Proposed Change to Section 4 of the Nevada State Technical Guide

AGENCY: Natural Resources Conservation Service (NRCS), U.S. Department of Agriculture.

ACTION: Notice of availability of proposed changes in the Nevada NRCS State Technical Guide for review and comment.

SUMMARY: It has been determined by the NRCS State Conservationist for Nevada that changes must be made in the NRCS State Technical Guide specifically in practice standard 590 Nutrient Management, to account for state specific requirements and improved technology. This practice applies all lands were plant nutrients and soil amendments are applied and is used in systems that managed the amount, source(s), placement, form and timing of application of nutrients and soil amendments.

DATES: Comments will be received for a period of 30 days following the publication date of this notice.

FOR FURTHER INFORMATION CONTACT: Nicholas Pearson, State Conservationist, Natural Resources Conservation Service, 5301 Longley Lane, Bldg. F, Suite 201, Reno, Nevada 89511-1805; phone (775) 784-5863; or fax (775) 784-5939.

SUPPLEMENTARY INFORMATION: If you would like to review the practice standard mentioned above, contact Nicholas Pearson at the above address or phone number or William Daily or Peggy Hughes at the above address or phone (775)784-5318 or visit our Web site at www.nv.nrcs.usda.gov.

For the next 30 days, the NRCS will receive comments relative to the proposed changes. Following that period, a determination will be made by the NRCS regarding disposition of those comments and a final determination of change will be made to subject standard.

Dated: July 9, 2002.
Richard Vigil,
Deputy State Conservationist, Nevada.

[FR Doc. 02-19108 Filed 7-26-02; 8:45 am]

BILLING CODE 3410-16-P